DEPARTMENT OF COMMERCE

International Trade Administration

State University of New York at Stony Brook University, et al.; Notice of Decision on Application for Duty-Free Entry of Scientific Instruments

This is a decision pursuant to section 6(c) of the Educational, Scientific, and Cultural Materials Importation Act of 1966 (Pub. L. 89-651, as amended by Pub. L. 106-36; 80 Stat. 897; 15 CFR part 301).On August 9, 2024, the Department of Commerce published a notice in the Federal Register requesting public comment on whether instruments of equivalent scientific value, for the purposes for which the instruments identified in the docket(s) below are intended to be used, are being manufactured in the United States. See Application(s) for Duty-Free Entry of Scientific Instruments, 89 FR 65323-24, August 9, 2024 (Notice). We received no public comments.

Comments: None received. Decision: Approved. We know of no instruments of equivalent scientific value to the foreign instruments described below, for such purposes as these are intended to be used, that were being manufactured in the United States at the time of order.

Docket Number: 24-020. Applicant: State University of New York at Stony Brook University, 100 Nicolls Road, Stony Brook, NY 11794-5230. Instrument:Miniature 2-Photon Microscope System. Manufacturer: Nanjing Transcend Vivoscope Bio-Technology Co., Ltd., China.Intended Use: The instrument is intended to be used for neuroscientists to enable them to study brain activity with unprecedented detail and flexibility. Acquiring a miniature two-photon scope for campus use would significantly advance neuroscience research at Stony Brook.

Docket Number: 24-021. Applicant: Washington State University, Procurement and Contract Services, French Administration Building 240, P.O. Box 64120, Pullman, WA 99164-1020. Instrument: Optical Lens, Polarized Beamsplitter, Broadband Dielectric Mirror, Non-polorizing Beamsplitter, Zero-order half and quarter. Manufacturer: Fuzhou Sunlight Technology, Co., Ltd., People's Republic of China. Intended Use: The instrument is intended to be used to study quantum phenomena, such as: Quantum memory, quantum computing, and quantum networking, and to investigate the quantum properties of such neutral atom array. This device could also be used for educational purposes. For graduate students' education (Physics 800 Doctoral Research) and undergraduate students' educations (Physics 499 Special Projects), students can learn how to operate lasers and MOT system to trap neutral atoms and form atom arrays and design optical layout. These tools will be commonly used in most quantum optics labs.

Docket Number: 24-022. Applicant: Columbia University, Department of Physics, Pupin Hall, 538 W 120 Street, New York, NY 10027. Instrument: Fiber Laser. Manufacturer: PreciLasers, China. Intended Use: The instrument is intended to be used for the production of an ultracold and trapped gas of Strontium-88 atoms for a Sr2 molecular clock experiment. This molecular clock will be used to perform precise measurements of molecular vibrational energies, enabling the study of physics beyondthe standard model. Learning to use lasers is an important part of the training of graduate students pursuing Ph.D.s—through using the lasers; they learn laser physics and practical aspects of operating and maintaining lasers.

Docket Number: 24-023. Applicant: Instrument: University of Colorado JILA Department, 3300 Walnut Street, Unit B, JILA Building, Room S/175, Boulder, CO 80301. Instrument: Fiber Laser. Manufacturer: Shanghai Precilasers Technology Co., Ltd., China. Intended Use: The instrument is intended to be used for the JILA eEDM Generation III experiment designed to explore physics beyond the Standard Model by precisely measuring the electron electric dipole moment (eEDM) using a tabletop setup. The approach involves measuring the eEDM within a molecular ion, which enhances the eEDM effect for better accuracy. The fiber laser we intend to acquire will provide the necessary 300 mW power output for both transitions.

Docket Number: 24-024. Applicant: Columbia University, Department of Physics, Pupin Hall, 538 W 120th Street, New York, NY 10027. Instrument: Fiber Laser. Manufacturer: PreciLasers, China. Intended Use: The instrument is intended to be used for the production of an ultracold and trapped gas of Strontium-88 atoms for a SR2 molecular clock experiment. This molecular clock will be used to perform precise measurements of molecular vibrational energies, enabling the study of physics beyond the Standard Model. Also, the instrument will be used to make sensitive measurements of the properties of the SR2 molecule in an optical lattice. In particular, looking for evidence of non-Newtonian gravity at Angstrom range, a possible indication of new physics required to explain the nature of dark matter in the universe.

Docket Number: 24-025.Applicant: Trustees of Boston College, 140 Commonwealth Avenue, Higgins Hall 335, Chestnut Hill, MA 02467. Instrument: Atomic Force Microscope Tip Containing Single Nitrogen Vacancy Centers. Manufacturer: QZabre Limited, Switzerland. Intended Use: The instrument is intended to be used in research projects in quantum information science and quantum materials. The diamond atomic force microscope tip (AFM) tip with single nitrogen vacancy (NV) centers will allow us to obtain the highest spatial resolution imaging of magnetic stray fields and current distributions. The instruments will be conducted by graduate students enrolled in doctoral program at Boston College. This will significantly benefit their training on cutting-edge quantum sensing techniques and allow them to join the US STEM workforce upon graduation.

Dated: September 12, 2024.
Gregory W. Campbell,
Director, Subsidies and Economic Analysts, Enforcement and Compliance.

[FR Doc. 2024-21107 Filed 9-16-24; 8:45 am]

BILLING CODE 3510-DS-P